DEPARTMENT OF HOMELAND SECURITY

Coast Guard

33 CFR Part 100

[Docket No. USCG-2016-0358]

Special Local Regulation; Annual Kennewick, Washington, Columbia Unlimited Hydroplane Races

AGENCY: Coast Guard, DHS.

ACTION: Notice of enforcement of regulation.

SUMMARY: The Coast Guard will enforce the special local regulation for the Annual Kennewick, Washington, Columbia Unlimited Hydroplane Races from 7 a.m. to 5:30 p.m. each day, from July 29, 2016, through July 31, 2016. This enforcement action is necessary to assist in minimizing the inherent dangers associated with hydroplane races. Our regulation for Recurring Marine Events in Captain of the Port Sector Columbia River Zone identifies the regulated area for this regatta. During the enforcement period, no vessel may transit this regulated area without approval from the Captain of the Port or a designated representative.

DATES: The regulation in 33 CFR 100.1303 will be enforced from 7 a.m. until 5:30 p.m. on July 29, 2016 through July 31, 2016.

FOR FURTHER INFORMATION CONTACT: If you have questions about this notice of enforcement, call or email Mr. Ken Lawrenson, Waterways Management Division, MSU Portland, Oregon, Coast Guard; telephone 503-240-9319, email msupdxwwm@uscg.mil.

SUPPLEMENTARY INFORMATION: The Coast Guard will enforce special local regulations in 33 CFR 100.1303 from 7 a.m. until 5:30 p.m. on July 29, 2016, through July 31, 2016, for the Annual Kennewick, Washington, Columbia Unlimited Hydroplane Races. This enforcement action is being taken to provide for the safety of life on navigable waterways during the regatta. Our regulation for Annual Kennewick, Washington, Columbia Unlimited Hydroplane, § 100.1303, specifies the location of the regulated area for all waters of the Columbia river bounded by two lines drawn from between position latitude 46°14′07″ N., longitude 119°10′42″ W. and position latitude 46°13′42″ N., longitude 119°10′51″ W.; and the second line running between position latitude 46°13′35″ N., longitude 119°07′34″ W. and position latitude 46°13′10″ N., longitude 119°07′47″ W. As specified in § 100.1303, during the enforcement period, no vessel may transit this regulated area without approval from the Captain of the Port Sector Columbia River (COTP) or a COTP designated representative.

This notice of enforcement is issued under authority of 33 CFR 100.1303 and 5 U.S.C. 552(a). In addition to this notice of enforcement in the Federal Register, the Coast Guard plans to provide notification of this enforcement period via the Local Notice to Mariners and marine information broadcasts.

Dated: June 7, 2016.
D.F. Berliner,
Captain, U.S. Coast Guard, Alternate Captain of the Port, Sector Columbia River.

[FR Doc. 2016-14067 Filed 6-14-16; 8:45 am]

BILLING CODE 9110-04-P